ENVIRONMENTAL PROTECTION AGENCY

[FRL-7129-9]

Intent To Grant an Exclusive Patent License

AGENCY: Environmental Protection Agency (EPA).

ACTION: Notice of intent to grant an exclusive patent license.

SUMMARY: Pursuant to 35 U.S.C. 207 and 37 CFR part 404, EPA hereby gives notice of its intent to grant an exclusive, royalty-bearing revocable license to practice the invention described and claimed in the patent application listed below, all U.S. patents issuing therefrom, and all reexamined and reissued patents granted in the United States in connection with such patent application to Corus Consulting Inc., Pittsburgh, Pennsylvania. The patent application is:

U.S. Patent Application No. 08/440,965, entitled “Hydrogel Alginate Compositions,” filed May 15, 1995, and claiming priority from U.S. Patent Application 07/857,046, entitled “Use of Immobilized Film Bioreactor,” filed March 25, 1992.

The invention was announced as being available for licensing in the April 26, 1995 issue of the Federal Register (60 FR 20490), citing another application in the series, U.S. Patent Application 08/084,985, entitled “Use of Immobilized Film Bioreactor,” filed July 2, 1993.

EPA has authority under 37 CFR 404.7(a)(1) to proceed without a notice of availability when expeditious granting of the license will best serve the interest of the Federal government and the public. Under that authority, EPA has decided not to issue a notice of availability because an earlier application in the family of inventions was announced as available for licensing and because the only applicant, Corus Consulting, has filed an application for an exclusive license under 37 CFR 404.8 and is prepared to enter into an exclusive license agreement.

The proposed exclusive license will contain appropriate terms, limitations and conditions to be negotiated in accordance with the limitations and conditions of 35 U.S.C. 209 and 37 CFR 404.5 and 404.7 of the U.S. Government patent licensing regulations.

EPA will negotiate the final terms and conditions and grant the exclusive license, unless within 30 days from the date of this Notice, EPA receives, at the address below, written objections to the grant, together with supporting documentation. The documentation from objecting parties having an interest in practicing the above patent application should include an application for exclusive or nonexclusive license with the information set forth in 37 CFR 404.8. The EPA Patent Counsel and other EPA officials will review all written responses and then make recommendations on a final decision to the Director of the National Risk Management Research Laboratory, who has been delegated the authority to issue patent licenses under EPA Delegation 1-55.

DATES: Comments to this notice must be received by EPA at the address listed below by February 19, 2002.

FOR FURTHER INFORMATION CONTACT: Alan Ehrlich, Patent Counsel, Office of General Counsel (Mail Code 2377A), U.S. Environmental Protection Agency, Washington, DC 20460, telephone (202) 564-5457.

Dated: January 11, 2002.
Robert A. Friedrich,
Acting Associate General Counsel.

[FR Doc. 02-1350 Filed 1-17-02; 8:45 am]

BILLING CODE 6560-50-P